DEPARTMENT OF ENERGY

Federal Energy Regulatory Commission

Combined Notice of Filings #1

August 26, 2008.

Take notice that the Commission received the following electric rate filings:

Docket Numbers: ER06-733-005.

Applicants: Midland Cogeneration Venture Limited Partnership.

Description: Midland Cogeneration Venture Limited Partnership submits revised market-based rate tariff sheets pursuant to the Commission's order authorizing the sale of ancillary services, etc.

Filed Date: 08/21/2008.

Accession Number: 20080822-0304.

Comment Date: 5 p.m. Eastern Time on Thursday, September 11, 2008.

Docket Numbers: ER08-796-002.

Applicants: ITC Midwest LLC.

Description: ITC Midwest LLC et al. submits proposed revisions to the Midwest ISO Open Access Transmission, etc. revised to show an effective date of 12/20/07.

Filed Date: 08/22/2008.

Accession Number: 20080825-0221.

Comment Date: 5 p.m. Eastern Time on Friday, September 12, 2008.

Docket Numbers: ER07-1096-006.

Applicants: Niagara Mohawk Power Corporation.

Description: Addendum to Compliance Electric Refund Report of 1/3/08.

Filed Date: 08/21/2008.

Accession Number: 20080821-5098.

Comment Date: 5 p.m. Eastern Time on Thursday, September 11, 2008.

Docket Numbers: ER08-1098-002.

Applicants: National Grid Generation LLC.

Description: National Grid Generation LLC submits clean and redlined tariff sheets in response to the Commission's Letter Order of 7/22/08.

Filed Date: 08/21/2008.

Accession Number: 20080822-0306.

Comment Date: 5 p.m. Eastern Time on Thursday, September 11, 2008.

Docket Numbers: ER08-1167-001.

Applicants: Kansas City Power & Light Company.

Description: Kansas City Power & Light Co. submits a compliance filing re the revised and restated amendatory agreement No. 1 to the Municipal Participation Agreement, etc.

Filed Date: 08/22/2008.

Accession Number: 20080822-0309.

Comment Date: 5 p.m. Eastern Time on Friday, September 12, 2008.

Docket Numbers: ER08-1202-001.

Applicants: Huntrise Energy Fund LLC.

Description: Huntrise Energy Fund LLC submits a request for additional information and tariff amendments.

Filed Date: 08/19/2008.

Accession Number: 20080821-0112.

Comment Date: 5 p.m. Eastern Time on Tuesday, September 9, 2008.

Docket Numbers: ER08-1262-001; ER08-1263-001; ER08-1268-001, ER00-2687-009; ER08-1270-001; ER04-53-008; ER08-1271-001; ER04-8-006.

Applicants: Ameren Energy Generating Company, Ameren Energy Marketing Company, Union Electric Company, AmerenEnergy Resources Generating Company, AmerenEnergy Medina Valley Cogen, L.L.C.

Description: Ameren Energy Generation Company et al. submit revisions to their market-based rate tariffs in order to allow each to sell ancillary services into Ancillary Services Markets.

Filed Date: 08/21/2008.

Accession Number: 20080822-0303.

Comment Date: 5 p.m. Eastern Time on Thursday, September 11, 2008.

Docket Numbers: ER08-1398-000.

Applicants: Smoky Hills Wind Project II, LLC.

Description: Smoky Hills Wind Project II, LLC submits an application for order Accepting Market-Based Rate Tariff, Granting Waivers and Blanket Authority.

Filed Date: 08/19/2008.

Accession Number: 20080821-0111.

Comment Date: 5 p.m. Eastern Time on Tuesday, September 9, 2008.

Docket Numbers: ER08-1422-000.

Applicants: New York Independent System Operator, Inc.

Description: New York Independent System Operator, Inc. submits a filing to revise the day-ahead market process to improve efficiency of resource commitment etc.

Filed Date: 08/18/2008.

Accession Number: 20080821-0105.

Comment Date: 5 p.m. Eastern Time on Monday, September 8, 2008.

Docket Numbers: ER08-1423-000.

Applicants: PHI, Potomac Electric Power Company, Delmarva Power & Light Company, Atlantic City Electric Company.

Description: Pepco Holdings, Inc. submits request for authorization to implement certain rate incentives for its Mid-Atlantic Power Pathway Project.

Filed Date: 08/18/2008.

Accession Number: 20080822-0043.

Comment Date: 5 p.m. Eastern Time on Monday, September 8, 2008.

Docket Numbers: ER08-1424-000.

Applicants: PacifiCorp.

Description: PacifiCorp submits a Network Operating Agreement with PacifiCorp Energy.

Filed Date: 08/19/2008.

Accession Number: 20080821-0117.

Comment Date: 5 p.m. Eastern Time on Tuesday, September 9, 2008.

Docket Numbers: ER08-1425-000.

Applicants: ML Partnership, LLC.

Description: ML Partnership, LLC submits a petition for application for acceptance of initial rate tariff, waivers and blanket authority.

Filed Date: 08/19/2008.

Accession Number: 20080821-0115.

Comment Date: 5 p.m. Eastern Time on Tuesday, September 9, 2008.

Docket Numbers: ER08-1426-000.

Applicants: Green Mountain Power Corporation, Central Vermont Public Service Corp.

Description: Green Mountain Power Corp. submits Notices of Cancellation of a Transmission Service Agreement with Central Vermont Public Service Corp.

Filed Date: 08/19/2008.

Accession Number: 20080821-0116.

Comment Date: 5 p.m. Eastern Time on Tuesday, September 9, 2008.

Docket Numbers: ER08-1427-000.

Applicants: PJM Interconnection, LLC.

Description: PJM Interconnection, LLC submits an executed interconnection service agreement.

Filed Date: 08/18/2008.

Accession Number: 20080821-0110.

Comment Date: 5 p.m. Eastern Time on Monday, September 8, 2008.

Docket Numbers: ER08-1428-000.

Applicants: Public Service Company of New Mexico.

Description: Public Service Company of New Mexico submits Contract TS-08-0042 with Tri-State Generation and Transmission Association.

Filed Date: 08/19/2008.

Accession Number: 20080821-0109.

Comment Date: 5 p.m. Eastern Time on Tuesday, September 9, 2008.

Docket Numbers: ER08-1429-000.

Applicants: Freedom Partners, LLC.

Description: Freedom Energy submits a notice of cancellation.

Filed Date: 08/18/2008.

Accession Number: 20080821-0108.

Comment Date: 5 p.m. Eastern Time on Monday, September 8, 2008.

Docket Numbers: ER08-1430-000.

Applicants: PJM Interconnection, LLC.

Description: PJM Interconnection, LLC submits an executed interconnection service agreement.

Filed Date: 08/18/2008.

Accession Number: 20080821-0107.

Comment Date: 5 p.m. Eastern Time on Monday, September 8, 2008.

Docket Numbers: ER08-1431-000.

Applicants: Southern California Edison Company.

Description: Southern California Edison Company submits a letter agreement between SCE and City of Industry.

Filed Date: 08/20/2008.

Accession Number: 20080821-0131.

Comment Date: 5 p.m. Eastern Time on Wednesday, September 10, 2008.

Docket Numbers: ER08-1432-000.

Applicants: MS Solar Solutions Corp.

Description: MS Solar Solutions Corp. submits a notice of succession.

Filed Date: 08/20/2008.

Accession Number: 20080821-0132.

Comment Date: 5 p.m. Eastern Time on Wednesday, September 10, 2008.

Docket Numbers: ER08-1433-000.

Applicants: ISO New England Inc. and New England Power

Description: ISO New England Inc. et al. submit revised tariff sheets and supporting testimony of Peter Harris, Manager of Outage Coordination for the ISO.

Filed Date: 08/20/2008.

Accession Number: 20080821-0133.

Comment Date: 5 p.m. Eastern Time on Wednesday, September 10, 2008.

Docket Numbers: ER08-1434-000.

Applicants: American Electric Power Service Corporation.

Description: American Electric Power System submits Ninth Revised Sheet 252 to Third Revised FERC Electric 6 of the AEP Operating Companies correcting a typographical error.

Filed Date: 08/20/2008.

Accession Number: 20080821-0040.

Comment Date: 5 p.m. Eastern Time on Wednesday, September 10, 2008.

Docket Numbers: ER08-1435-000.

Applicants: Midwest Independent Transmission System Operator.

Description: Midwest Independent Transmission System Operator Inc. submits proposed revisions to Section 43.7.2 Load Switching Under State Programs and Other Transactions etc.

Filed Date: 08/21/2008.

Accession Number: 20080822-0307.

Comment Date: 5 p.m. Eastern Time on Thursday, September 11, 2008.

Docket Numbers: ER08-1436-000.

Applicants: Connecticut Light & Power Company, Northeast Utilities Service Company.

Description: Connecticut Light and Power Company submits a revised Interconnection Agreement by and between CL&P and Capital District Energy Center Associates, designated as First Revised Service Agreement 67.

Filed Date: 08/21/2008.

Accession Number: 20080822-0308.

Comment Date: 5 p.m. Eastern Time on Thursday, September 11, 2008.

Docket Numbers: ER99-2948-015; ER00-2918-014; ER00-2917-014; ER05-261-007; ER01-556-013; ER01-1654-016; ER02-2567-014; ER05-728-007; ER04-485-011; ER07-247-006; ER07-245-006; ER07-244-006.

Applicants: Baltimore Gas and Electric Company, Constellation Power Source Generation, Inc., Calvert Cliffs Nuclear Power Plant, Inc., Constellation Energy Commodities Group, Inc. Handsome Lake Energy, LLC, Nine Mile Point Nuclear Station, LLC, Constellation NewEnergy, Inc., Constellation Energy Commodities Group Maine, LLC, R.E. Ginna Nuclear Power Plant, LLC, Raven One, LLC, Raven Two, LLC, Raven Three, LLC.

Description: Constellation MBR Entities submits their joint market-power analysis update for the Northeast region and certain amendments to their market based rate tariff in Compliance with Order 697.

Filed Date: 08/18/2008.

Accession Number: 20080821-0118.

Comment Date: 5 p.m. Eastern Time on Monday, September 8, 2008.

Take notice that the Commission received the following open access transmission tariff filings:

Docket Numbers: OA07-28-003.

Applicants: Avista Corporation.

Description: Order No. 890 Compliance Filing re Avista Corp.

Filed Date: 08/21/2008.

Accession Number: 20080821-5031.

Comment Date: 5 p.m. Eastern Time on Thursday, September 11, 2008.

Docket Numbers: OA07-35-002.

Applicants: Cleco Power LLC.

Description: Cleco Power LLC submits its Operational Penalties Annual Compliance report concerning Cleco's penalty assessment and distributions since the 7/13/07 effective date of the Order 890 OATT.

Filed Date: 08/18/2008.

Accession Number: 20080821-0130.

Comment Date: 5 p.m. Eastern Time on Monday, September 8, 2008.

Docket Numbers: OA08-125-000.

Applicants: NorthWestern Corporation.

Description: NorthWestern Corporation's Informational Filing of Operational Penalty Assessments and Distributions as Required by Order Nos. 890 and 890-A.

Filed Date: 08/18/2008.

Accession Number: 20080818-5140.

Comment Date: 5 p.m. Eastern Time on Monday, September 8, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Kimberly D. Bose,
Secretary.

[FR Doc. E8-20267 Filed 9-2-08; 8:45 am]

BILLING CODE 6717-01-P